DEPARTMENT OF DEFENSE

Office of the Secretary

[Transmittal No. 20-13]

Arms Sales Notification

AGENCY: Defense Security Cooperation Agency, Department of Defense (DoD).

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-13 with attached Policy Justification and Sensitivity of Technology.

Dated: January 8, 2021.
Aaron T. Siegel,
Alternate OSD Federal Register Liaison Officer, Department of Defense.

BILLING CODE 5001-06-P

BILLING CODE 5001-06-C

Transmittal No. 20-13

Notice of Proposed Issuance of Letter of Offer Pursuant to Section 36(b)(1) of the Arms Export Control Act, as amended

(i) Prospective Purchaser: Kingdom of Saudi Arabia

(ii) Total Estimated Value:

Major Defense Equipment * | $250 million
Other | $ 40 million
TOTAL | $290 million

(iii) Description and Quantity or Quantities of Articles or Services under Consideration for Purchase:

Major Defense Equipment (MDE): Three thousand (3,000) GBU-39/B Small Diameter Bomb I (SDB I)

Non-MDE: Also included are containers; weapon support and support equipment; spare and repair parts; U.S. Government and contractor engineering, technical and logistical support services; and other related elements of logistical and program support.

(iv) Military Department: Air Force (SR-D-YAE)

(v) Prior Related Cases, if any: SR-D-YBD

(vi) Sales Commission, Fee, etc., Paid, Offered, or Agreed to be Paid: None

(vii) Sensitivity of Technology Contained in the Defense Article or Defense Services Proposed to be Sold: See Attached Annex.

(viii) Date Report Delivered to Congress: December 28, 2020

* As defined in Section 47(6) of the Arms Export Control Act.

POLICY JUSTIFICATION

Saudi Arabia—GBU-39 Small Diameter Bomb I (SDB I) Munitions

The Kingdom of Saudi Arabia has requested to buy three thousand (3,000) GBU-39 SDB I munitions. Also included are containers; weapon support and support equipment; spare and repair parts; U.S. Government and contractor engineering, technical and logistical support services; and other related elements of logistical and program support. The total estimated program cost will be $290 million.

This proposed sale will support U.S. foreign policy and national security objectives by helping to improve the security of a friendly country that continues to be an important force for political stability and economic growth in the Middle East.

The proposed sale will improve Saudi Arabia's capability to meet current and future threats by increasing its stocks of long-range, precision air-to-ground munitions. The size and accuracy of the SDB I allows for an effective munition with less collateral damage. The potential sale will further strengthen the interoperability between the United States and Saudi Arabia. Saudi Arabia will have no difficulty absorbing this equipment into its armed forces.

The proposed sale of this equipment and support will not alter the basic military balance in the region.

The principal contractor will be Boeing, St. Louis, MO. There are no known offset agreements in connection with this potential sale; however the purchaser typically requests offsets. Any offset agreement will be defined in negotiations between the purchaser and the contractor.

Implementation of this proposed sale will not require the assignment of any additional U.S. Government or contractor representatives to the Kingdom of Saudi Arabia.

There will be no adverse impact on U.S. defense readiness as a result of this proposed sale.

Transmittal No. 20-13

Notice of Proposed Issuance of Letter of Offer Pursuant to Section 36(b)(1) of the Arms Export Control Act

Annex

Item No. vii

(vii) Sensitivity of Technology:

1. The GBU-39/B Small Diameter Bomb Increment I (SDB I) is a 250-pound class weapon designed as a small, all weather, autonomous, conventional, air-to-ground, precision glide weapon able to strike fixed and stationary re-locatable targets from standoff range. The SDB I weapon system consists of the weapons, the BRU-61/A (4-place pneumatic carriage system), shipping and handling containers for a single weapon and the BRU-61/A either empty or loaded, and a weapon planning module. It has integrated diamond-back type wings that deploy after release, which increases the glide time and therefore maximum range. The SDB I Anti-Jam Global Positioning System aided Inertial Navigation System (AJGPS/INS) provides guidance to the coordinates of a stationary target. The payload/warhead is a very effective multipurpose penetrating and blast fragmentation warhead couples with a cockpit selectable electronic fuze. Its size and accuracy allow for an effective munition with less collateral damage. A proximity sensor provides height of burst capability.

2. The highest level of classification of information included in this potential sale is SECRET.

3. If a technologically advanced adversary were to obtain knowledge of the specific hardware and software elements, the information could be used to develop countermeasures that might reduce weapon system effectiveness or be used in the development of a system with similar or advanced capabilities.

4. A determination has been made that the Kingdom of Saudi Arabia can provide substantially the same degree of protection for the sensitive technology being released as the U.S. Government. This sale is necessary in furtherance of the U.S. foreign policy and national security objectives outlined in the Policy Justification.

5. All defense articles and services listed in this transmittal are authorized for release and export to the Kingdom of Saudi Arabia.

[FR Doc. 2021-00625 Filed 1-13-21; 8:45 am]

BILLING CODE 5001-06-P